DEPARTMENT OF THE INTERIOR

National Park Service

Going-to-the-Sun Road Rehabilitation Environmental Impact Statement, Glacier National Park, Montana

AGENCY: National Park Service, Department of the Interior.

ACTION: Notice of intent to prepare an Environmental Impact Statement for the Going-to-the-Sun Road Rehabilitation, Glacier National Park.

SUMMARY: Under the provisions of the National Environmental Policy Act, the National Park Service is preparing an Environmental Impact Statement for the Going-to-the-Sun Road Rehabilitation for Glacier National Park. This Environmental Impact Statement will be approved by the Intermountain Regional Director.

The Going-to-the-Sun Road, a National Historic Landmark, is in need of rehabilitation. Since its opening in 1932 it has had limited repairs and reconstruction resulting in a deteriorating condition resulting in visitor use, maintenance, and safety concerns. Rehabilitation of the road is extremely difficult because of the very narrow width and the limited room available for staging construction and performing repairs. The narrow road corridor, the short construction season, and extreme and unpredictable weather conditions affect both the integrity of the road and the rehabilitation effort. Avalanches, rock falls, and repeated freezing and thawing continually deteriorate the road and jeopardize both the public and construction workers safety.

In the final General Management Plan Environmental Impact Statement for Glacier National Park, the preferred alternative reflects a desired condition for the road to be repaired and for its continued use, but not the method to achieve it. The road will continue to be protected as a national historic landmark. The road's historic character and significance will be preserved, and the needed repairs will be completed before the road fails. The National Park Service will minimize the impacts on natural resources, visitors and the economy, and minimize the rehabilitation costs.

The Going-to-the-Sun Road rehabilitation project/EIS includes a number of technical studies including engineering studies, a socio-economic study and marketing plan, a cultural landscape report, and a transportation/visitor use plan. A public advisory committee has also been established by authority of the Secretary of the Interior under Section 3 of Public Law 91-383 (16 U.S.C 1a-2(c)) to advise the National Park Service during development of the Rehabilitation Study.

The various technical studies will result in a series of findings and recommendations that will be combined into a range of alternatives to rehabilitate the road. These alternatives will be evaluated through the EIS process. A variety of factors will be considered in developing these alternatives including, but not limited to, socio-economic implications, natural resources, visitor use, and construction costs. These alternatives have not yet been developed. A no action alternative will also be considered as required by the National Environmental Policy Act (NEPA). The effort will result in a selected course of action for the rehabilitation of the Going-to-the-Sun Road.

Major issues include the limited season available for rehabilitation activities on the critical sections of the road, concerns about impacts to the local and regional economy (past studies have considered closing the road for limited periods of time), and potential short-term and long-term impacts to natural resources in Glacier National Park. The current poor condition of the road resulting in potential safety concerns to visitors and the travelling public underscores the purpose and need for the project.

If you wish to provide comments for consideration, you may submit your comments by any one of several methods. You may mail comments to Superintendent, Attn: Going-to-the Sun Road Study Glacier National Park, West Glacier, Montana 59936. You may also comment via email at glac_public_comments@nps.gov, attention: GTTSR-Rehabilitation Project. Please include your name and return address in your email message. If you do not receive confirmation from the system that we received your email message, contact us directly at 406/888-7972. Finally, you may hand-deliver comments to Glacier National Park headquarters, West Glacier, Montana. Our practice is to make comments, including names and home addresses of respondents, available for public review during regular business hours. Individual respondents may request that we withhold their home address from the record, which we will honor to the extent allowable by law. There also may be circumstances in which we would withhold from the record a respondents identity, as allowable by law. If you wish us to withhold your name and/or address, you must state this prominently at the beginning of your comment. We will not consider anonymous comments. We will make all submissions from organizations or businesses, and from individuals identifying themselves as representatives or officials of organizations or businesses, available for public inspection in their entirety.

When a scoping document is prepared and public meetings/open houses are scheduled, an announcement will be made in the Federal Register.

FOR FURTHER INFORMATION CONTACT: Contact Superintendent Glacier National Park, (406) 888-7972.

Dated: May 18, 2000.
Michael D. Snyder,
Director, Intermountain Region, National Park Service.

[FR Doc. 00-13910 Filed 6-2-00; 8:45 am]

BILLING CODE 4310-70-P